DEPARTMENT OF COMMERCE

National Oceanic and Atmospheric Administration

Science Advisory Board; Meeting

AGENCY: Office of Oceanic and Atmospheric Research (OAR), National Oceanic and Atmospheric Administration (NOAA), Department of Commerce (DOC).

ACTION: Notice of Open Meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

TIME AND DATE: The meeting will be held Tuesday July 25, 2006, from 1 p.m. to 5:20 p.m. and Wednesday July 26, 2006, from 9:00 a.m. to 4:30 p.m. These times and the agenda topics described below are subject to change. Please refer to the web page <http://www.sab.noaa.gov/Meetings/meetings.html> for the most up-to-date meeting agenda.

PLACE: The meeting will be held both days at the Best Western Beach Resort Monterey, 2600 Sand Dunes Drive, Monterey, California 93940.

STATUS: he meeting will be open to public participation with a 30-minute public comment period on July 26 (check website to confirm time). The SAB expects that public statements presented at its meetings will not be repetitive of previously submitted verbal or written statements. In general, each individual or group making a verbal presentation will be limited to a total time of five (5) minutes. Written comments (at least 35 copies) should be received in the SAB Executive Director's Office by July 17, 2006 to provide sufficient time for SAB review. Written comments received by the SAB Executive Director after July 17 will be distributed to the SAB, but may not be reviewed prior to the meeting date. Seats will be available on a first-come, first-served basis.

MATTERS TO BE CONSIDERED: The meeting will include the following topics: (1) Discussion of the Final Report of the External Review of NOAA's Ecosystem Research and Science Enterprise; (2) Discussion of the Final Report of the Physical and Social Sciences Research Task Team (3) Discussion of the Final Report of the Hurricane Intensity Research Working Group; (4) Report on Building the Scientific Foundation for an Effective Regional System of Marine Protected Areas (MPAs) with a focus on NOAA's West Coast Pilot Project; (5) Update on the Integrated Ocean Observing System (IOOS) addressing its Status and NOAA's Contributions; (6) Discussion of the Pacific Coast Ocean Observing System (PaCOOS) as a Regional Ecosystem Coordinating Group and (7) Approval of the NOAA Cooperative Institute Review of the Cooperative Institute for Climate Science (CICS).

FOR FURTHER INFORMATION CONTACT: Dr. Cynthia Decker, Executive Director, Science Advisory Board, NOAA, Rm. 11117, 1315 East-West Highway, Silver Spring, Maryland 20910. (Phone: 301-713-9121, Fax: 301-713-3515, E-mail: Cynthia.Decker@noaa.gov); or visit the NOAA SAB website at http://www.sab.noaa.gov.

Dated: July 7, 2006.
Richard W. Spinrad,
Assistant Administrator, Office of Oceanic and Atmospheric Research, National Oceanic and Atmospheric Administration.

[FR Doc. 06-6197 Filed 7-13-06; 8:45 am]

BILLING CODE 3510-KD-P